DEPARTMENT OF VETERANS AFFAIRS

[OMB Control No. 2900-0300]

Agency Information Collection (Veterans Application for Assistance in Acquiring Special Housing Adaptations) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden; it includes the actual data collection instrument.

DATES: Comments must be submitted on or before August 5, 2013.

ADDRESSES: Submit written comments on the collection of information through www.Regulations.gov or to VA's OMB Desk Officer, OMB Human Resources and Housing Branch, New Executive Office Building, Room 10235, Washington, DC 20503 (202) 395-7316. Please refer to “OMB Control No. 2900-0300” in any correspondence.

FOR FURTHER INFORMATION CONTACT: Crystal Rennie, Enterprise Records Service (005R1B), Department of Veterans Affairs, 810 Vermont Avenue NW, Washington, DC 20420, (202) 461-7485 or email crystal.rennie@va.gov. Please refer to “OMB Control No. 2900-0300.”

SUPPLEMENTARY INFORMATION:

Title: Veterans Application for Assistance in Acquiring Special Housing Adaptations, VA Form 26-4555d.

OMB Control Number: 2900-0300.

Type of Review: Revision of a currently approved collection.

Abstract: Title 38, U.S.C. 2101 authorizes assistance to disabled Veterans in acquiring special housing and adaptations to dwellings. Under 38 U.S.C. 2101(b), grants are available to assist Veterans in making adaptations to their current residences or one which they intend to live in as long as the home is owned by the Veteran or a member of the Veteran's family. VA Form 26-4555d enables field personnel to evaluate the request for adaptations. This form is needed because of the difference in disabilities, the amount of alteration, adaptation to the house and title requirements.

An agency may not conduct or sponsor, and a person is not required to respond to a collection of information unless it displays a currently valid OMB control number. The Federal Register Notice with a 60-day comment period soliciting comments on this collection of information was published on February 13, 2013, at pages 10266-10267.

Affected Public: Individuals or households.

Estimated Annual Burden: 33 hours.

Estimated Average Burden per Respondent: 20 minutes.

Frequency of Response: One time.

Estimated Number of Respondents: 100.

Dated: July 1, 2013.
By direction of the Secretary.
Crystal Rennie,
VA Clearance Officer, U.S. Department of Veterans Affairs.

[FR Doc. 2013-16153 Filed 7-3-13; 8:45 am]

BILLING CODE 8320-01-P